DEPARTMENT OF TRANSPORTATION

Coast Guard

33 CFR Part 117

[CGD 08-01-035]

RIN 2115-AE47

Drawbridge Operation Regulations; Missouri River (Missouri)

AGENCY: Coast Guard, DOT.

ACTION: Notice of proposed rulemaking.

SUMMARY: The Commander, Eighth Coast Guard District proposes to change the regulation governing the operation of the A-S-B Railroad Drawbridge, Mile 365.6, Missouri River between North Kansas City, Kansas and Kansas City, Missouri. The existing regulation prescribes a procedure for requesting an opening of the drawspan which significantly differs from the current procedure used, and contains wrong information. The change is necessary to reconcile the regulation to the current operating procedure.

DATES: Comments must reach the Coast Guard on or before April 16, 2002.

ADDRESSES: Material received from the public, as well as documents indicated in this preamble as being available in the docket, are part of docket CGD 08-01-035 and are available for inspection or copying at room 2.107f in the Robert A. Young Federal Building at Eighth Coast Guard District, Bridge Branch, 1222 Spruce Street, St. Louis, MO 63103-2832, between 7 a.m. and 4 p.m., Monday through Friday, except Federal holidays.

FOR FURTHER INFORMATION CONTACT: Mr. Roger K. Wiebusch, Bridge Administrator (obr), Eighth Coast Guard District, Bridge Branch, 1222 Spruce Street, St. Louis, MO 63103-2832, at (314)539-3900, extension 378.

SUPPLEMENTARY INFORMATION:

Request for Comments

The Coast Guard encourages interested persons to participate in this rulemaking by submitting written data, view or arguments. Persons submitting comments should include their names and addresses, identify this rulemaking (CGD 08-01-035) and the specific section of this document to which each comment applies, and give the reason for each comment. Please submit two copies of all comments and attachments in an unbound format, no larger than 8 ½ by 11 inches, suitable for copying and electronic filing. Persons wanting acknowledgment of receipt of comments should enclose stamped, self-addressed postcards or envelopes.

The Coast Guard will consider all comments received during the comment period. It may change this proposed rule in view of the comments.

The Coast Guard plans no public hearing. Persons may request a public hearing by writing to the Coast Guard district bridge office at the address under ADDRESSES. The request should include the reasons why a hearing would be beneficial. If it determines that the opportunity for oral presentations will aid this rulemaking, the Coast Guard will hold a public hearing at a time and place announced by a later notice in the Federal Register.

Regulatory History

Prior to 1985, 33 CFR 117.411(b) and 117.687(b) required the A-S-B Railroad Drawbridge to open on signal for the passage of vessels. In October 1983, the bridge owner proposed remote operation of this bridge and the adjacent Hannibal Railroad Drawbridge, Mile 366.1, Missouri River. On May 17, 1984, a Notice of Proposed Rulemaking to operate the A-S-B Railroad Drawbridge from a remote location was published in the Federal Register. The proposal was to change the operation of the bridge from an onsite operator to a bridge/train controller remotely located in a tower in a nearby rail yard. The proposed rule required the bridge to be equipped with a directional microphone and horn for communicating with vessels that did not possess a radiotelephone. It also provided for the installation of closed circuit TV cameras at various locations to enable the remote bridge/train controller to view both river traffic and the bridge. The proposed rule also described the manner in which communications would be established and maintained between the remote bridge train controller and approaching vessels, and delineated the light signals to be used. In June 1984, the bridge owner informed the Coast Guard that the bridge/train controller for the A-S-B Railroad Drawbridge could not be at the remote location identified in the proposed rule. Instead, the bridge/train controller would be located at the Hannibal Railroad Drawbridge. The communications and control of the A-S-B Railroad Drawbridge as described in the proposed rule would remain with the bridge/train controller at the Hannibal Railroad Drawbridge. On October 30, 1985, a Final Rule was approved by the Coast Guard to allow remote operation of the A-S-B Railroad Drawbridge. On November 18, 1985, the Final Rule was published in the Federal Register, with an effective date of December 18, 1985. Immediately following publication of the final rule, the bridge owner informed the Coast Guard they would not follow the regulation as promulgated. Since then, several attempts have been made to change the operation of the drawbridge to comply with the existing regulation. The most recent attempt was in December 1997. Actions to bring the operation of the bridge into compliance were identified but never implemented.

Background and Purpose

The Burlington Northern Santa Fe Railroad (BNSF) owns and operates the A-S-B Railroad Drawbridge, Mile 365.6, Missouri River, between North Kansas City, Kansas and Kansas City, Missouri. In 1985, the current drawbridge operation regulations became effective. The intent of the regulations was to authorize remote operation of the A-S-B Drawbridge and to facilitate management of frequent train and vessel movements. Since 1985, there have been numerous reported vessel delays due to drawbridge operations. A review of the causes of the delays revealed that the bridge is not operated as required by the regulations, in part, from confusion about the proper procedure.

The differences between the regulation and current operating procedures were identified and discussed at a meeting between railroad personnel, waterway users and Coast Guard personnel. The current procedure for obtaining a bridge opening was reviewed and determined to be effective. The consensus of the group was that the regulations have not been followed for many years, but the current method used to request a bridge opening was effective, and the regulations should be changed to reflect the current method of operation.

Discussion of Proposed Rule

The A-S-B Railroad Drawbridge is a vertical lift drawbridge that crosses the Missouri River between North Kansas City, Kansas and Kansas City, Missouri. It is located .5 mile downstream from the Burlington Northern Santa Fe's Hannibal Railroad Drawbridge, a swing span bridge. A drawtender is located on the Hannibal Drawbridge, but not on the A-S-B Railroad Drawbridge. The A-S-B Railroad Drawbridge has never operated in accordance with the existing regulation. The proposed rule will delete the existing regulation for operation of this bridge and require it to operate in the same manner as all other drawbridges on the Missouri River. 33 CFR 117.411 and 117.687 require bridges on the Missouri River to open on signal except that, from December 16 through the last day of February, the draw shall open on signal if at least 24 hours notice is given. The proposed rule will have the A-S-B Railroad Drawbridge operate just as the adjacent Hannibal Railroad Drawbridge is required to do. Waterway users are accustomed to the current operating method. Eliminating the existing regulation and implementing the proposed regulation will not impact waterway users.

Regulatory Evaluation

This proposed rule is not a significant regulatory action under section 3(f) of Executive Order 12866 and does not require an assessment of potential costs and benefits under Section 6(a)(3) of that Order. It has been reviewed by the Office of Management and Budget under that Order. It is not significant under the regulatory policies and procedures of the Department of Transportation (DOT) (44 FR 11040; February 26, 1979). Since the Coast Guard expects the economic impact of this proposed rule to be minimal a full Regulatory Evaluation under paragraph 10e of the regulatory policies and procedures of DOT is unnecessary. Deleting 33 CFR 117.411(b) and 117.687(b) is strictly administrative since the current bridge operates in accordance with the existing requirements of 33 CFR 117.411(a) and 117.687(a).

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Small Entities

Under the Regulatory Flexibility Act (5 U.S.C. 601 et seq.), the Coast Guard considers whether this proposed rule, if adopted, will have a significant economic impact on a substantial number of small entities. “Small entities” include small businesses, not-for-profit organizations that are independently owned and operated and are not dominant in their fields, and governmental jurisdictions with populations of less than 50,000. Therefore, the Coast Guard certifies under 5 U.S.C. 605(b) that this proposed rule, if adopted, will not have a significant economic impact on a substantial number of small entities. If, however, you think that your business or organization qualifies as a small entity and that this proposed rule will have a significant economic impact on your business or organization, please submit a comment (see ADDRESSES) explaining why you think it qualifies and in what way and to what degree this proposed rule will economically affect it.

Assistance for Small Entities

Under section 213(a) of the Small Business Regulatory Enforcement Fairness Act of 1996 (Pub. L. 104-121), we offer to assist small entities in understanding the rule so that they could better evaluate its effects on them and participate in the rulemaking process. Any individual that qualifies or, believes he or she qualifies as a small entity and requires assistance with the provision of this rule, may contact Mr. Roger K. Wiebusch, Bridge Administrator, Eighth Coast Guard District, Bridge Branch at (314) 539-3900, extension 378.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1888-REG-FAIR (1-888-734-3247).

Collection of Information

This proposed rule does not provide for a collection of information under the Paperwork Reduction Act of 1995 (44 U.S.C. 3501-3520).

Federalism

The Coast Guard has analyzed this proposed rule under the principles and criteria contained in Executive Order 12612 and has determined that this proposed rule does not have sufficient implications for federalism to warrant the preparation of a Federalism Assessment.

Unfunded Mandates Reform Act

The Unfunded Mandates Reform Act of 1995 (2 U.S.C. 1531-1538) governs the issuance of Federal regulations that require unfunded mandates. An unfunded mandate is a regulation that requires a State, local or tribal government or the private sector to incur direct costs without the Federal Government's having first provided the funds to pay those unfunded mandate costs. This rule will not impose an unfunded mandate.

Taking of Private Property

This rule will not effect a taking of private property or otherwise have taking implications under Executive Order 12630, Government Actions and Interference with Constitutionally Protected Property Rights.

Civil Justice Reform

This rule meets applicable standards in sections 3(a) and 3(b)(2) of Executive Order 12988, Civil Justice Reform, to minimize litigation, eliminate ambiguity and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this proposed rule and concluded that in accordance with Figure 2-1, (32)(e), of Commandant Instruction M16475.1C, this proposed rule is categorically excluded from further environmental documentation. The subject regulation change is procedural in nature, in that it is updating an existing procedure. A “Categorical Exclusion Determination” is available in the docket for inspection or copying where indicated under ADDRESSES.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under authority of Pub. L. 102-587, 106 Stat. 5039.

§ 117.411 [Amended]

2. In § 117.411, remove paragraph (b) and remove the paragraph designation (a).

§ 117.687 [Amended]

3. In § 117.687, remove paragraph (b) and remove the paragraph designation (a).

Dated: February 6, 2002.
Roy J. Casto,
Rear Admiral, U.S. Coast Guard Commander, Eighth Coast Guard District.

[FR Doc. 02-3693 Filed 2-14-02; 8:45 am]

BILLING CODE 4910-15-U